DEPARTMENT OF COMMERCE

National Oceanic and Atmospheric Administration

RIN 0648-XF515

Fisheries of the South Atlantic; South Atlantic Fishery Management Council; Public Meetings

AGENCY: National Marine Fisheries Service (NMFS), National Oceanic and Atmospheric Administration (NOAA), Commerce.

ACTION: Notice of meetings of the South Atlantic Fishery Management Council's Citizen Science Advisory Panel Action Teams.

SUMMARY: The South Atlantic Fishery Management Council (Council) will hold three meetings of its Citizen Science Advisory Panel Action Teams via webinar.

DATES: The meetings will be held July 24, 2017 at 7 p.m., July 27, 2017 at 10 a.m., and July 27, 2017 at 1 p.m. Each meeting is scheduled to last approximately 90 minutes.

ADDRESSES:

Meeting address: The meetings will be held via webinar and are open to members of the public to listen. Webinar registration is required and registration links will be posted to the Council's Web site at www.safmc.net.

Council address: South Atlantic Fishery Management Council, 4055 Faber Place Drive, Suite 201, N. Charleston, SC 29405.

FOR FURTHER INFORMATION CONTACT: Amber Von Harten, Citizen Science Program Manager, SAFMC; phone: (843) 302-8433 or toll free (866) SAFMC-10; fax: (843) 769-4520; email: amber.vonharten@safmc.net.

SUPPLEMENTARY INFORMATION: The South Atlantic Fishery Management Council is developing a Citizen Science Program. In March 2016, the Council adopted the Citizen Science Program Blueprint outlining specific program components needed to develop the Citizen Science Program. In the Citizen Science Program Blueprint, development of Action Teams in the areas of Volunteers, Data Management, Projects/Topics Management, Finance, and Communication/Outreach/Education were identified as necessary program components. To develop these five program components the Council created the Citizen Science Advisory Panel Pool and appointed members of the advisory panel to serve on Action Teams (sub-panels) to specifically address each of the five program areas—Volunteers, Data Management, Projects/Topics Management, Finance, and Communication/Outreach/Education.

The Council will hold three webinar meetings for members of the Citizen Science Advisory Panel Action Teams. The webinar meetings are being held to provide an introduction to the Council's Citizen Science program and the process and operation of the Action Teams. The three webinar meetings will cover the same agenda items and are being scheduled to address the availability of Action Team members.

Items to be addressed during these meetings:

1. The Council's Citizen Science Program development

2. Operation and structure of the Action Teams

3. Terms of Reference for each Action Team

4. Schedule of Action Team webinar meetings

Special Accommodations

These meetings are physically accessible to people with disabilities. Requests for auxiliary aids should be directed to the council office (see ADDRESSES) 3 days prior to the meeting.

Note: The times and sequence specified in this agenda are subject to change.

Authority: 16 U.S.C. 1801 et seq.

Dated: July 3, 2017.
Tracey L. Thompson,
Acting Deputy Director, Office of Sustainable Fisheries, National Marine Fisheries Service.

[FR Doc. 2017-14265 Filed 7-6-17; 8:45 am]

BILLING CODE 3510-22-P